DEPARTMENT OF EDUCATION

National Institute on Disability and Rehabilitation Research

AGENCY: Office of Special Education and Rehabilitative Services, Department of Education.

ACTION: Notice of proposed priority.

SUMMARY: The Assistant Secretary for Special Education and Rehabilitative Services proposes a priority on Mental Health Service Delivery to Deaf, Hard of Hearing, and Deaf-Blind Individuals from Diverse Racial, Ethnic, and Linguistic Backgrounds under the Disability and Rehabilitation Research Projects (DRRP) Program of the National Institute on Disability and Rehabilitation Research (NIDRR). The Assistant Secretary may use this priority for competitions in fiscal year (FY) 2002. We take this action to focus research attention on an identified national need. We intend this priority to improve rehabilitation service and outcomes for individuals with disabilities.

DATES: We must receive your comments on or before June 28, 2002.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in room 3412, Switzer Building, 330 C Street, SW., Washington, DC, between the hours of 8:30 a.m. and 4 p.m., Eastern Time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Disability and Rehabilitation Research Projects (DRRP) Program

The purpose of the DRRP Program is to plan and conduct research, demonstration projects, training, and related activities that help (1) to maximize the full inclusion and integration of individuals with disabilities into society, and (2) to improve the effectiveness of services authorized under the Rehabilitation Act of 1973, as amended (the Act).

This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice published in the Federal Register. When inviting applications we designate each priority as absolute, competitive preference, or invitational. The effect of each type of priority follows:

Absolute Priority

Under an absolute priority, we consider only applications that meet the priority (34 CFR 75.105(c)(3)).

Competitive Preference Priority

Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational Priority

Under an invitational priority, we are particularly interested in applications that meet the invitational priority. However, we do not give an application that meets the priority a competitive or absolute preference over other applications (34 CFR 75.105(c)(1)).

Priority

Background

In the field of mental health, help is based largely on the relationship between the provider and recipient of services. This relationship, in turn, is based primarily on communication. For individuals who are deaf, hard-of-hearing, or deaf-blind, spoken English often is an ineffective means of communication. The question is how methods used to augment communication, such as the use of sign language interpreters and assistive listening devices, affect results in the delivery of mental health services for these individuals.

The Surgeon General noted in a report that individuals from racial, cultural, and linguistic minorities in the United States face serious barriers to competent mental health care, suffer a greater loss of overall health and productivity, and bear a greater burden from unmet mental health needs. Further, the Surgeon General recommended that future studies identify effective services for minority subpopulations, including persons with both mental and physical health conditions (Mental Health: Culture, Race, and Ethnicity, a Supplement to Mental Health: A Report of the Surgeon General, U.S. Public Health Service, 2001). Deaf, hard of hearing, and deaf-blind members from diverse racial and ethnic populations are an important example of this type of subpopulation.

Even assuming that these individuals seek and receive treatment from providers familiar with their cultural, communicative, and linguistic backgrounds, psychological test measures often are inadequate (Vernon M., An Historical Perspective on Psychology and Deafness, Journal of the American Deafness and Rehabilitation Association, Vol. 29(2), pg. 11, 1995). Few psychological tests and assessment instruments have been developed for the deaf population in general, and none have been developed for the Asian-American deaf population (Wu C.L. and Grant N.C., Asian-American and Deaf, in Irene Leigh (Ed.), Psychotherapy with Deaf Clients from Diverse Backgrounds, Washington, D.C.: Gallaudet University Press; pg. 212, 1999).

You may obtain additional information about the background of this priority by contacting the person listed under FOR FURTHER INFORMATION CONTACT.

Proposed Priority—Mental Health Service Delivery to Deaf, Hard of Hearing, and Deaf-Blind Individuals From Diverse Racial, Ethnic, and Linguistic Backgrounds

This proposed priority is intended to enhance the quality of the delivery of mental health services for deaf, hard-of-hearing, or deaf-blind individuals from diverse racial, ethnic, and linguistic backgrounds. For purposes of this proposed priority, “individuals from diverse linguistic backgrounds” includes not only individuals who are fluent in languages other than English, but also individuals with minimal language skills who are not fluent in any language.

To be funded under this priority, a project would be required to choose at least one, but, no more than four of the following research activities:

(1) Investigate, compare, and evaluate the effectiveness of mental health services provided by mental health providers using qualified sign language interpreters as opposed to services provided by mental health providers fluent in sign language. The research project must consider the educational, clinical, and professional credentials of each provider.

(2) Investigate, evaluate, and develop, as needed, model psychological testing instruments and mental health outcome measures for deaf, hard-of-hearing, or deaf-blind individuals from diverse racial, ethnic, and linguistic backgrounds.

(3) Identify, evaluate, and develop, as needed for use in mental health settings, model communication strategies for individuals with minimal language skills who are deaf, hard-of-hearing, or deaf-blind.

(4) Identify and evaluate factors that assist or hinder entrance into the delivery system of mental health services for deaf, hard-of-hearing, or deaf-blind individuals from diverse racial, ethnic, and linguistic backgrounds.

(5) Identify and evaluate factors that have an impact on the effectiveness of the delivery of mental health services to deaf, hard-of-hearing, or deaf-blind individuals from diverse racial, ethnic, and linguistic backgrounds.

In addition, each project would have to:

• Involve in all phases of research individuals with disabilities, including deaf, hard-of-hearing, and deaf-blind individuals and individuals from diverse racial, ethnic, and linguistic backgrounds; and

• As directed by the NIDRR Project Officer for these programs, collaborate with other NIDRR projects and the National Center for the Dissemination of Disability Research.

Applicable Program Regulations

34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability Rehabilitation Research Project)

Program Authority: 29 U.S.C. 762(g) and 764(b).

Dated: May 15, 2002.
Loretta L. Petty,
Acting Assistant Secretary for Special Education and, Rehabilitative Services.

[FR Doc. 02-13401 Filed 5-28-02; 8:45 am]

BILLING CODE 4000-01-P